DEPARTMENT OF HOUSING AND URBAN DEVELOPMENT

[Docket No. FR-4743-N-09]

Notice of Planned Closing of Nashville, TN Post-of-Duty Station

AGENCY: Office of the Inspector General, HUD.

ACTION: Notice of planned closing of the Nashville, Tennessee post-of-duty station.

SUMMARY: This notice advises the public that HUD's Office of the Inspector General (HUD/OIG) plans to close its Nashville, Tennessee post-of-duty station, and also provides a cost-benefit analysis of the impact of this closure.

FOR FURTHER INFORMATION CONTACT: Bryan Saddler, Counsel to the Inspector General, Room 8260, Department of Housing and Urban Development, 451 Seventh Street, SW., Washington, DC 20410-4500, (202) 708-1613. (This is not a toll-free number.) A telecommunications device for hearing- and speech-impaired persons (TTY) is available at (800) 877-8339 (Federal Information Relay Services). (This is a toll-free number.)

SUPPLEMENTARY INFORMATION: The Nashville, Tennessee post-of-duty station was opened in 2003 to address fraud statewide. In 2006, one of the two agents assigned to Nashville resigned and another was transferred to Texas. Additionally, HUD/OIG plans to add investigative staff to its existing post-of-duty station in Knoxville. HUD/OIG has determined that greater efficiency and cost-savings can be achieved by now consolidating staff and resources in the Knoxville office.

Section 7(p) of the Department of Housing and Urban Development Act (42 U.S.C. 3535(p)) provides that a plan for field reorganization, which may involve the closing of any field or regional office, of the Department of Housing and Urban Development may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 58.) Through this notice, HUD/OIG advises the public of the closing of the Nashville, Tennessee duty station and provides the cost-benefit analysis of the impact of the closure.

Impact of the Closure of the Nashville, Tennessee, Post-of-Duty Station: HUD/OIG considered the costs and benefits of closing the Nashville, Tennessee post-of-duty station, and is publishing its cost-benefit analysis with this notice. In summary, HUD/OIG has determined that the closure will result in a cost savings, and, as a result of the size and limited function of the office, will cause no appreciable impact on the provision of authorized investigative services/activities in the area.

A. Cost Savings: The Nashville, Tennessee post-of-duty station currently costs approximately $31,764.38 per annum for space rental. Additional associated overhead expenses (e.g., telephone service) are incurred to operate the post-of-duty station. Thus, closing the office will result in annual savings of at least $32,000.

B. Additional Costs: Since the Nashville, Tennessee post-of-duty is currently not staffed, there are no offsetting costs associated with the closure.

C. Impact on Local Economy: No appreciable impact on the local economy is anticipated. The post-of-duty station is located in a desirable office park, and it is anticipated that the space can easily be re-leased to other tenants.

D. Effect on Availability, Accessibility and Quality of Services Provided to Recipients of Those Services: The availability, accessibility and quality of services provided to complainants will not be adversely impacted. Special agents assigned to other HUD/OIG offices—chiefly Atlanta, and soon Knoxville—can cost-effectively address fraud allegations in Tennessee generally and Nashville specifically.

For the reasons stated in this notice, HUD/OIG intends to proceed to close its Nashville, Tennessee post-of-duty station at the expiration of the 90-day period from the date of publication of this notice.

Dated: January 10, 2007.
Kenneth M. Donohue, Sr.,
Inspector General.

[FR Doc. E7-578 Filed 1-16-07; 8:45 am]

BILLING CODE 4210-67-P